FEDERAL COMMUNICATIONS COMMISSION

Notice of Public Information Collection(s) Being Reviewed by the Federal Communications Commission, Comments Requested

January 10, 2005.

SUMMARY: The Federal Communications Commission, as part of its continuing effort to reduce paperwork burden invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 22, 2005. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0678.

Title: Part 25 of the Commission's Rules Governing the Licensing of, and Spectrum Usage by, Satellite Network Earth Stations and Space Stations.

Form No.: FCC Form 312, Schedule S.

Type of Review: Revision of a currently approved collection.

Respondents: Business or other for-profit.

Number of Respondents: 2,396.

Estimated Time Per Response: 11 hours.

Frequency of Response: On occasion, annual, and other reporting requirements and third party disclosure requirement.

Total Annual Burden: 26,334 hours.

Total Annual Cost: $8,425,000.

Privacy Act Impact Assessment: N/A.

Needs and Uses: The International Bureau plans to modify the classification of filing section of the electronic FCC Form 312 to clarify and renumber the selection options. Specifically, the following modifications are proposed: (1) Add clarifying language to Item 17b1: Application for license of New Station to Access a U.S. Satellite or to Access a Non-U.S. Satellite that is Currently Authorized to Provide the Proposed Service in the Frequencies in the United States; (2) move the existing item 17b11 line item up as the new 17b2 which reads: “Application for Earth Station to Access a Non-U.S. Satellite Not Currently Authorized to Provide the Proposed Service in the Proposed Frequencies in the United States'; (3) add a new selection (b3) which permits filers to select both b1 and b2; and (4) move down all other items and renumber them. This collection is used by the Commission staff to carry out its duties concerning satellite communications as require by Sections 301, 308, 309 and 310 of the Communications Act of 1934, as amended. It is also used by Commission staff in carrying out its duties under the World Trade Organization (WTO) Basic Telecom Agreement. The information collection requirements accounted for in this collection are necessary to determine the technical and legal qualifications of applicants or licensees to operate a station, transfer or assign a license, and to determine whether the authorization is in the public interest, convenience and necessity. All satellite applications filed under Part 25, whether by U.S. or non-U.S. entities, and regardless of spectrum used, are included in this collection. As technology advances and new spectrum are allocated for satellite use, applicants for satellite service will continue to submit the information required in Part 25 of the Commission's rules. Without such information, the Commission could not determine whether to permit respondents to provide telecommunication services in the United States.

OMB Control No.: 3060-0734.

Title: Accounting Safeguards, CC Docket No. 96-150, 47 U.S.C. 260 and 271-276, and 47 CFR 53.209, 53.211 and 53.213.

Form No.: N/A.

Type of Review: Extension of a currently approved collection.

Respondents: Business or other for-profit.

Number of Respondents: 27.

Estimated Time Per Response: 24-6,056 hours.

Frequency of Response: On occasion, annual and biennial reporting requirements, recordkeeping requirement and third party disclosure requirement.

Total Annual Burden: 123,859 hours.

Total Annual Cost: $633,000.

Privacy Act Impact Assessment: N/A.

Needs and Uses: In CC Docket No. 96-150, the Commission prescribed the way incumbent local exchange carriers (ILECs), including Bell Operating Companies (BOCs), must account for transactions with affiliates involving, and allocate costs incurred in the provisions of, both regulated telecommunications services and non-regulated services, including telemessaging, interLATA telecommunications and information services, telecommunications equipment and CPE manufacturing and others pursuant to 47 U.S.C. Sections 260 and 271-276. The Commission issued a Notice of Proposed Rulemaking in May 2004, which solicited comment regarding the sunset of the statutory requirements in 47 U.S.C. Section 272.

OMB Control No.: 3060-0795.

Title: Associate WTB Call Signs and Antenna Registration Numbers with Licensee's FCC Registration Number (FRN).

Form No.: FCC Form 606.

Type of Review: Revision of a currently approved collection.

Respondents: Individuals or households; business or other for-profit; not-for-profit institutions; and state, local or tribal government.

Number of Respondents: 429,000.

Estimated Time Per Response: 1 hour.

Frequency of Response: On occasion reporting requirement and third party disclosure requirement.

Total Annual Burden: 429,000 hours.

Total Annual Cost: N/A.

Privacy Act Impact Assessment: Yes.

Needs and Uses: Licensees use the FCC Form 606 to associate their FCC Registration Number (FRN) with their Wireless Telecommunications Bureau call signs and antenna structure registration numbers. In addition, those antenna structure tenant licensees subject to the Anti-Drug Abuse Act of 1998 must use FCC Form 606 to register their antenna structures. The form must be submitted before any filing any subsequent applications associated with the existing license or antenna structure registration and prior to applying for an initial Wireless Telecommunications license or antenna structure registration. The Commission is revising the FCC Form 606 and its instructions to remove information about the Taxpayer Identification Number (TIN) registration requirements (including the title of the form) due to the implementation of the Commission Registration System (CORES) and to facilitate compliance with the Debt Collection Improvement Act of 1996 (DCIA). There is no change in the estimated number of respondents or burden hours.

OMB Control No.: 3060-0798.

Title: FCC Application for Wireless Telecommunications Bureau Radio Service Authorization.

Form No.: FCC Form 601.

Type of Review: Revision of a currently approved collection.

Respondents: Individuals or households; business or other for-profit; not-for-profit institutions; and state, local or tribal government.

Number of Respondents: 250,520.

Estimated Time Per Response: 1.25 hours.

Frequency of Response: On occasion and other (10 year) reporting requirements, recordkeeping requirement, and third party disclosure requirement.

Total Annual Burden: 219,205 hours.

Total Annual Cost: $50,104,000.

Privacy Act Impact Assessment: Yes.

Needs and Uses: FCC Form 601 is a consolidated, multi-part application or “long form” for market-based licensing and site-by-site licensing in the Wireless Telecommunications Bureau's (WTB's) Radio Services' Universal Licensing System (ULS). The information is used by the Commission to determine whether the applicant is legally, technically, or financially qualified to be licensed. The WTB will be making a change to FCC 601 to include a question asking if the change of name is due to a change in ownership, corporate structure or entity. There is no change to the estimated number of respondents or burden hours.

OMB Control No.: 3060-0850.

Title: Quick-Form Application for Authorization in the Ship, Aircraft, Amateur, Restricted and Commercial Operator, and General Mobile Radio Services.

Form No.: FCC Form 605.

Type of Review: Revision of a currently approved collection.

Respondents: Individuals or households; business or other for-profit; not-for-profit institutions; and state, local or tribal government.

Number of Respondents: 175,000.

Estimated Time Per Response: .44 hours.

Frequency of Response: On occasion and other (5 and 10 year) reporting requirements, recordkeeping requirement, and third party disclosure requirement.

Total Annual Burden: 77,000 hours.

Total Annual Cost: $2,537,500.

Privacy Act Impact Assessment: Yes.

Needs and Uses: FCC Form 605 application is a consolidated application form for Ship, Aircraft, Amateur, Restricted and Commercial Operator, and General Mobile Radio Services and is used to collect licensing data for the Universal Licensing System (ULS). The Commission will be making a change to FCC Form 605 to include a question asking if the change of name is due to a change in ownership, corporate structure or entity. The data collected on this form includes the date of birth for commercial operator licensees; however, this information will be redacted from public view. There is no change in the number of respondents or burden hours.

OMB Control No.: 3060-1058.

Title: FCC Wireless Telecommunications Bureau Application or Notification of Spectrum Leasing Arrangement.

Form No.: FCC Form 608 (formerly FCC Form 603-T).

Type of Review: Revision of a currently approved collection.

Respondents: Business or other for-profit, not-for-profit institutions, and state, local or tribal government.

Number of Respondents: 1,493.

Estimated Time Per Response: 5 hours.

Frequency of Response: On occasion reporting requirement and recordkeeping requirement.

Total Annual Burden: 7,453 hours.

Total Annual Cost: $1,221,860.

Privacy Act Impact Assessment: N/A.

Needs and Uses: The required notifications and applications will provide the Commission with use information about spectrum usage and helps to ensure that licensees and lessees are complying with Commission interference and non-interference related policies and rules. Similar information and verification requirements have been used in the past for licensees operating under authorization, and such requirements will serve to minimize interference, verify lessees are legally and technically qualified to hold licenses, and ensure compliance with Commission rules. The Commission is now renaming the form from FCC Form 603-T to FCC Form 608 and revising it including schedules to accommodate the leasing of licenses through License Manager in the Universal Licensing System (ULS). There is no change in the number of respondents or burden hours.

Federal Communications Commission.
Marlene H. Dortch,
Secretary.

[FR Doc. 05-1164 Filed 1-19-05; 8:45 am]

BILLING CODE 6712-01-P